DEPARTMENT OF COMMERCE

Foreign-Trade Zones Board

[Order No. 1157]

Expansion of Foreign-Trade Zone 74, Baltimore, MD Area

Pursuant to its authority under the Foreign-Trade Zones Act of June 18, 1934, as amended (19 U.S.C. 81a-81u), the Foreign-Trade Zones Board (the Board) adopts the following Order:

Whereas, the Baltimore Development Corporation, on behalf of the City of Baltimore, Maryland, grantee of Foreign-Trade Zone 74, submitted an application to the Board requesting authority in a major revision to its zone plan, to expand and reorganize FTZ 74 by increasing FTZ space at existing sites (Sites 1, 2 and 4) and by adding new sites (Sites 3, 5, 6, 7, 8, 9, 10 and 11) to the zone project in and adjacent to the Port of Baltimore, within the Baltimore Customs port of entry (FTZ Docket 35-2000; filed 7/7/00);

Whereas, notice inviting public comment was given in the Federal Register (65 FR 43289, 7/13/00) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 74 is approved, subject to the Act and the Board's regulations, including § 400.28.

Signed at Washington, DC, this 5th day of April 2001.
Timothy J. Hauser,
Acting Under Secretary for International Trade, Alternate Chairman, Foreign-Trade Zones Board.
Attest:
Dennis Puccinelli,
Executive Secretary.

[FR Doc. 01-9371 Filed 4-13-01; 8:45 am]

BILLING CODE 3510-DS-P